DEPARTMENT OF THE INTERIOR

National Park Service

[NPS-WASO-NAGPRA-NPS0034848; PPWOCRADN0-PCU00RP14.R50000]

Notice of Inventory Completion: University of California, Riverside, Riverside, CA

AGENCY: National Park Service, Interior.

ACTION: Notice.

SUMMARY: In accordance with the Native American Graves Protection and Repatriation Act (NAGPRA), the University of California, Riverside (UCR) has completed an inventory of human remains and associated funerary objects and has determined that there is a cultural affiliation between the human remains and associated funerary objects and Indian Tribes or Native Hawaiian organizations in this notice. The human remains and associated funerary objects were removed from Clark County, NV.

DATES: Repatriation of the human remains and associated funerary objects in this notice may occur on or after December 12, 2022.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside. The National Park Service is not responsible for the determinations in this notice. Additional information on the determinations in this notice, including the results of consultation, can be found in the inventory or related records held by the University of California, Riverside.

Description

At an unknown date, human remains representing, at minimum, one individual were removed from Clark County, NV. Subsequently, these human remains were part of a collection kept at the UCR Radiocarbon Laboratory and under the direction of Dr. R. Ervin Taylor. When Taylor retired in 2003, the lab was decommissioned, and Taylor removed the records and remaining sample materials to his private residence. When Dr. Taylor passed away in 2019, these records and samples were transferred to the UCR Library, whereupon these human remains were discovered among the samples. Not until September of 2021 were UCR NAGPRA Staff able to find documentation concerning the removal of these human remains. Radiocarbon dates suggest a date of A.D. 1220 +/− for the remains. No known individual was identified. The 12 associated funerary objects are two ash samples, one lot of carbonized corn cobs, three flaked-stone chips, four animal bones, one lot of pollen samples, and one lot of charcoal.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, oral traditional, and expert opinion.

Determinations

Pursuant to NAGPRA and its implementing regulations, and after consultation with the appropriate Indian Tribes and Native Hawaiian organizations, the University of California, Riverside has determined that:

• The human remains described in this notice represent the physical remains of one individual of Native American ancestry.

• The 12 objects described in this notice are reasonably believed to have been placed with or near individual human remains at the time of death or later as part of the death rite or ceremony.

• There is a relationship of shared group identity that can be reasonably traced between the human remains and associated funerary objects described in this notice and the Moapa Band of Paiute Indians of the Moapa River Indian Reservation, Nevada.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after December 12, 2022. If competing requests for repatriation are received, the University of California, Riverside must determine the most appropriate requestor prior to repatriation. Requests for joint repatriation of the human remains and associated funerary objects are considered a single request and not competing requests. The University of California, Riverside is responsible for sending a copy of this notice to the Indian Tribes and Native Hawaiian organizations identified in this notice.

Authority: Native American Graves Protection and Repatriation Act, 25 U.S.C. 3003, and the implementing regulations, 43 CFR 10.9, 10.10, and 10.14.

Dated: November 2, 2022.
Melanie O'Brien,
Manager, National NAGPRA Program.

[FR Doc. 2022-24554 Filed 11-9-22; 8:45 am]

BILLING CODE 4312-52-P